DEPARTMENT OF COMMERCE

Patent and Trademark Office

Submission for OMB Review; Comment Request; Trademark Trial and Appeal Board (TTAB) Actions

The United States Patent and Trademark Office (USPTO) will submit to the Office of Management and Budget (OMB) for clearance the following proposal for collection of information under the provisions of the Paperwork Reduction Act (44 U.S.C. Chapter 35).

Agency: United States Patent and Trademark Office, Commerce

Title: Trademark Trial and Appeal Board (TTAB) Actions

OMB Control Number: 0651-0040.

Form Number(s):

• PTO 2120

• PTO 2151

• PTO 2153

• PTO 2188

• PTO 2189

• PTO 2190

Type of Request: Revision of a currently approved collection.

Number of Respondents: 78,000 per year.

Average Hours per Response: Between 10 minutes (0.17 hours) and 30 minutes (0.5 hours) to gather the necessary information, prepare the materials, and to submit it to the USPTO, depending upon the instrument used.

Burden Hours: 15,997.67 hours.

Cost Burden: $5,744,000.00.

Needs and Uses: This information is required by the Trademark Act of 1946, Sections 13, 14, and 20, 15 U.S.C. 1063, 1064, and 1070, respectively. The information in this collection is a matter of public record and is used by the public for a variety of private business purposes related to establishing and enforcing trademark rights. This information is important to the public, as both common law trademark owners and Federal trademark registrants must actively protect their own rights. This collection includes the information needed by the USPTO to review the various types of petitions to cancel the registration of a mark, notices of opposition to the registration of a mark, extensions of time to file an opposition, appeals, and other papers filed in connection with inter partes and ex parte proceedings.

Affected Public: Businesses or other for-profits; not-for-profit institutions.

Frequency: On occasion.

Respondent's Obligation: Required to Obtain or Retain Benefits.

OMB Desk Officer: Nicholas A. Fraser, email: Nicholas_A._Fraser@omb.eop.gov. Once submitted, the request will be publicly available in electronic format through reginfo.gov. Follow the instructions to view Department of Commerce collections currently under review by OMB.

Further information can be obtained by:

• Email: InformationCollection@uspto.gov. Include “0651-0040 copy request” in the subject line of the message.

• Mail: Marcie Lovett, Records and Information Governance Division Director, Office of the Chief Technology Officer, United States Patent and Trademark Office, P.O. Box 1450, Alexandria, VA 22313-1450.

Written comments and recommendations for the proposed information collection should be sent on or before June 26, 2017 to Nicholas A. Fraser, OMB Desk Officer, via email to Nicholas_A._Fraser@omb.eop.gov, or by fax to 202-395-5167, marked to the attention of Nicholas A. Fraser.

Marcie Lovett,
Records and Information Governance Division Director, OCTO, United States Patent and Trademark Office.

[FR Doc. 2017-10759 Filed 5-25-17; 8:45 am]

BILLING CODE 3510-16-P